DEPARTMENT OF ENERGY

Federal Energy Regulatory Commission

[Docket Nos. RP00-403-004 and RP01-388-004]

Northern Border Pipeline Company; Notice of Compliance Filing

June 5, 2003.

Take notice that on June 2, 2003, Northern Border Pipeline Company (Northern Border) tendered for filing the FERC Gas Tariff, First Revised Volume No. 1, the revised tariff sheets identified at Appendices A and B to the filing.

Northern Border states that the revised tariff sheets are being filed in order to comply with the Commission's May 6, 2003 Order in the referenced proceedings, and that the revised tariff sheets relate to compliance with Order Nos. 637, 637-A, and 637-B and the Commission's Remand Order at Docket No. RM98-10-011.

Northern Border states that copies of this filing have been sent to all of Northern Border's contracted Shippers, interested state regulatory commissions, and all parties of record in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 16, 2003.

Magalie R. Salas,
Secretary.

[FR Doc. 03-14758 Filed 6-10-03; 8:45 am]

BILLING CODE 6717-01-P